ENVIRONMENTAL PROTECTION AGENCY

40 CFR Parts 50 and 51

[EPA-HQ-OAR-2005-0159; FRL-8052-8]

RIN 2060-AN40

Notice of Public Hearing for the Proposed Rule—The Treatment of Data Influenced by Exceptional Events

AGENCY: Environmental Protection Agency (EPA).

ACTION: Announcement of public hearing.

SUMMARY: The EPA is announcing two public hearings for the proposed rule on “The Treatment of Data Influenced by Exceptional Events” which was published in the Federal Register on March 10, 2006.

DATES: The public hearings will be held on April 18, 2006, and April 25, 2006. Please refer to SUPPLEMENTARY INFORMATION for additional information on the hearings.

ADDRESSES: Public Hearing: The public hearings will be held at the following locations:

1. Research Triangle Park, N.C.: Date of hearing: April 18, 2006. The Sheraton Imperial Hotel, 4700 Emperor Blvd., Durham, N.C. 27703, Phone: 919-941-5050.

2. Denver, CO: Date of hearing: April 25, 2006. The Adams Mark Hotel, 1550 Court Place, Denver, CO 80202, Phone: 303-893-3333.

FOR FURTHER INFORMATION CONTACT: If you would like to speak at the public hearing or have questions concerning the public hearing, please contact Ms. Pamela Long at the address provided below under SUPPLEMENTARY INFORMATION.

Questions concerning the proposed rule entitled “The Treatment of Data Influenced by Exceptional Events” should be addressed to Mr. Larry Wallace, Ph.D., U.S. EPA, Office of Air Quality Planning and Standards, Air Quality Policy Division, (C539-01), Research Triangle Park, N.C. 27711, telephone number (919) 541-0906, e-mail at Wallace.larry@epa.gov, or Mr. Neil Frank, U.S. EPA, Office of Air Quality Planning and Standards, Air Quality Assessment Division, (C304-01), Research Triangle Park, N.C. 27711, telephone number (919) 541-5560, and e-mail address frank.neil@epa.gov.

SUPPLEMENTARY INFORMATION: The EPA has proposed a rule to govern the review and handling of air quality monitoring data influenced by exceptional events. Exceptional events are events for which the normal planning and regulatory process established by the Clean Air Act is not appropriate. In this rulemaking action, EPA is proposing to: Implement section 319(b)(3)(B) and section 107(d)(3) authority to exclude air quality monitoring data from regulatory determinations related to exceedances or violations of the National Ambient Air Quality Standards (NAAQS) and avoid designating an area as nonattainment, redesignating an area as nonattainment, or reclassifying an existing nonattainment area to a higher classification if a State adequately demonstrates that an exceptional event has caused an exceedance or violation of a NAAQS.

Public hearings: The proposal for which EPA is holding the public hearings was published in the Federal Register on March 10, 2006 (71 FR 21592) and is available on the following Web site: http://www.epa.gov/ttn/oarpg/t1pfpr.html. The public hearings will provide interested parties the opportunity to present data, views, or arguments concerning the proposed rule. The EPA may ask clarifying questions during the oral presentations, but will not respond to the presentations at that time. Written statements and supporting information submitted during the comment period will be considered with the same weight as any oral comments and supporting information presented at the public hearings. Written comments must be postmarked by May 10, 2006, which is the closing date for the comment period, as specified in the proposal for the rule.

The two public hearings will be held in Research Triangle Park, N.C. on April 18, 2006 and Denver, CO on April 25, 2006. Both public hearings will begin at 9 a.m. (local time) and continue until 5 p.m. on each day, if necessary, depending on the number of speakers. The EPA may end the hearing early (no earlier than 2 p.m.) if all registered speakers have had an opportunity to speak.

Commenters desiring to speak at the hearing should notify Ms. Pamela Long, (C539-01), U.S. EPA, Research Triangle Park, N.C. 27711, long.pam@epa.gov, (919) 541-0641 by 12 p.m. Eastern time on April 13, 2006. We request that commenters contact Ms. Long at U.S. EPA, Research Triangle Park, N.C. 27711, by e-mail at long.pam@epa.gov, or by telephone at (919) 541-0641, and provide the requests to speak at the hearing. Ms. Long will arrange a time slot for participants to speak at the hearing.

Commenters should notify Ms. Long if they will need specific equipment, or if there are other special needs related to providing comments at the hearing. Persons desiring to present oral testimony that have not made arrangements in advance can register by 2 p.m. on the day of the hearing. The EPA will provide equipment for commenters to show overhead slides or make computerized slide presentations if we receive special requests in advance. Oral testimony will be limited to 5 minutes for each commenter. The EPA encourages commenters to provide EPA with a copy of their oral testimony electronically (via e-mail, computer disk, or CD) or in hard copy form.

The hearing schedule, including lists of speakers, will be posted on EPA's Web site http://www.epa.gov/ttn/oarpg/t1pfpr.html. Verbatim transcripts of the hearings and written statements will be included in the docket for the rulemaking.

How Can I Get Copies of This Document and Other Related Information?

The EPA has established the official public docket for the proposed rule entitled “The Treatment of Data Influenced by Exceptional Events” under Docket ID No. EPA-HQ-OAR-2005-0159. As stated previously, the proposed rule was published in the Federal Register on March 10, 2006 (71 FR 12592) and is available at http://www.epa.gov/ttn/oarpg/t1pfpr.html.

Dated: March 27, 2006.
Gregory Green,
Acting Director, Office of Air Quality Planning and Standards.

[FR Doc. 06-3154 Filed 3-31-06; 8:45 am]

BILLING CODE 6560-50-P